DEPARTMENT OF HEALTH AND HUMAN SERVICES

Centers for Disease Control and Prevention

Board of Scientific Counselors, Office of Public Health Preparedness and Response (BSC, OPHPR); Correction

Notice is hereby given of a change in the meeting of the Board of Scientific Counselors, Office of Public Health Preparedness and Response, (BSC, OPHPR); May 9, 2018, 10:00 a.m.-5:30 p.m., EDT and May 10, 2018, 8:30 a.m.-3:30 p.m., EDT which was published in the Federal Register on April 2, 2018, Volume 83, Number 63, page 13987.

The meeting will be held one day only, May 9, 2018, 9:00 a.m.-4:15 p.m., EDT, and should read as follows:

Board of Scientific Counselors, Office of Public Health Preparedness and Response, (BSC, OPHPR); May 9, 2018, 9:00 a.m.-4:15 p.m. The public is also welcome to listen to the meeting by via Adobe Connect. Pre-registration is required by clicking the links below. WEB ID: May 9, 2018 (100 seats) https://adobeconnect.cdc.gov/e9teo9x7k41/event/registration.html.

FOR FURTHER INFORMATION CONTACT: Dometa Ouisley, Office of Science and Public Health Practice, Centers for Disease Control and Prevention, 1600 Clifton Road NE, Mailstop D-44, Atlanta, Georgia 30329, Telephone: (404) 639-7450, Fax: (404) 471-8772, Email: OPHPR.BSC.Questions@cdc.gov.

The Director, Management Analysis and Services Office, has been delegated the authority to sign Federal Register notices pertaining to announcements of meetings and other committee management activities, for both the Centers for Disease Control and Prevention and the Agency for Toxic Substances and Disease Registry.

Elaine Baker,
Director, Management Analysis and Services Office, Centers for Disease Control and Prevention.

[FR Doc. 2018-11097 Filed 5-23-18; 8:45 am]

BILLING CODE 4163-18-P